DEPARTMENT OF THE INTERIOR

National Park Service

[NPS-MWR-EFMO-13214; PPMWMWROW2/PPMPSAS1Y.YP0000]

Notice of Availability of a Record of Decision on the Final General Management Plan/Environmental Impact Statement, Effigy Mounds National Monument, Iowa

AGENCY: National Park Service, Interior.

ACTION: Notice of availability.

SUMMARY: The National Park Service (NPS) announces the availability of the Record of Decision (ROD) for the Final General Management Plan/Environmental Impact Statement (GMP/EIS), Effigy Mounds National Monument (Monument), Iowa.

ADDRESSES: Copies of the ROD are available by request by writing to Superintendent, Effigy Mounds National Monument, 151 Highway 76, Harpers Ferry, Iowa 52146-7519. The document is also available on the internet at the NPS Planning, Environment, and Public Comment Web site at: http://www.parkplanning.nps.gov/efmo.

FOR FURTHER INFORMATION CONTACT: Superintendent James Nepstad at the address above, by telephone at 563-873-3491 or email at jim_nepstad@nps.gov.

SUPPLEMENTARY INFORMATION: The NPS has issued a ROD for the Final GMP/EIS; on May 29, 2013, the Regional Director for the Midwest Region approved the ROD. As soon as practicable, the NPS will begin to implement the selected alternative, which was identified as the preferred alternative (Alternative B) in the EIS.

In the preferred alternative, a large portion of the Monument would be zoned as backcountry, a virtual research center would be created to collect and share information on mound research and preservation, and access to the South Unit of the Monument would be improved by connecting the Yellow River bridge and trail to the trails in the South Unit. This alternative was also determined to be the environmentally preferable alternative. The preferred alternative and two others were analyzed in the GMP/EIS.

In reaching its decision to select the preferred alternative, the NPS considered the purposes for which the Monument was established, and other laws and policies that apply to lands within the Monument. The NPS also carefully considered public comments received during the planning process.

To determine the preferred alternative, the planning team evaluated three draft alternatives that had been reviewed by the public. To minimize the influence of individual biases and opinions, the team used an objective analysis process called “Choosing by Advantages.” Alternative B best preserves the outstanding representative examples of significant phases of prehistoric Indian moundbuilding cultures in the American Midwest and the wildlife and natural values within the Monument, two of the three purposes for which the Monument was established. Alternative B also achieves this higher level of protection through the management zoning and more limited trail development. Finally, Alternative B provides broader access to mound research and digitized portions of the collections through the development of the virtual research center, thereby better fulfilling the third purpose (scientific study and appreciation) for which the Monument was established.

Dated: May 24, 2013.
Michael T. Reynolds,
Regional Director, Midwest Region.

[FR Doc. 2013-15265 Filed 6-25-13; 8:45 am]

BILLING CODE 4310-MA-P